DEPARTMENT OF HEALTH AND HUMAN SERVICES

Centers for Medicare & Medicaid Services

[Document Identifier: CMS-10064]

Agency Information Collection Activities: Submission for OMB Review; Comment Request

AGENCY: Centers for Medicare & Medicaid Services, HHS.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: Extension of a currently approved collection; Title of Information Collection: Minimum Data Set (MDS) for Swing Bed Hospitals and Supporting Regulations in 42 CFR 483.20 and 413.337; Form No.: CMS-10064 (OMB # 0938-0872); Use: As required under Section 1888(e)(7) of the Social Security Act, swing bed hospitals must be reimbursed under the skilled nursing facility prospective payment system. CMS uses the MDS data to reimburse swing bed hospitals for SNF-level care furnished to Medicare beneficiaries. The MDS3.0 is currently being developed with plans for field testing to begin in 2006 with the expectation of completion in 2007. At that time, CMS will analyze the data derived from the study, including the implementation of the new version of the MDS for swing bed hospitals. Since we do not have the MDS3.0 version available, we are requesting an extension for the current SB-MDS.; Frequency: Reporting—Other (days 5, 14, 30, 60, and 90 of stay); Affected Public: Not-for-profit institutions, and State, Local, and Tribal governments; Number of Respondents: 820; Total Annual Responses: 92,789; Total Annual Hours: 51,314.

To obtain copies of the supporting statement and any related forms for these paperwork collections referenced above, access CMS Web site address at http://www.cms.hhs.gov/regulations/pra/, or e-mail your request, including your address, phone number, OMB number, and CMS document identifier, to Paperwork@cms.hhs.gov, or call the Reports Clearance Office on (410) 786-1326.

To be assured consideration, comments and recommendations for the proposed information collections must be received by the OMB Desk Officer at the address below, no later than 5 p.m. on November 14, 2005. OMB Human Resources and Housing Branch, Attention: CMS Desk Officer, New Executive Office Building, Room 10235, Washington, DC 20503.

Dated: October 6, 2005.
Martique S. Jones,
Acting Director, Regulations Development Group, Office of Strategic Operations and Regulatory Affairs.

[FR Doc. 05-20521 Filed 10-13-05; 8:45 am]

BILLING CODE 4120-01-P